DEPARTMENT OF DEFENSE

Department of the Navy

Notice of Availability of Government-Owned Inventions; Available for Licensing

AGENCY: Department of the Navy, DoD.

ACTION: Notice.

SUMMARY: The inventions listed below are assigned to the United States Government as represented by the Secretary of the Navy. U.S. Patent No. 7,048,854: Apparatus for the removal of heavy metals from acidic wastewater and chemical solutions, Navy Case No. 97424//U.S. Patent No. 7,105,094: Method for the removal of heavy metals from acidic wastewater and chemical solutions, Navy Case No. 97617.

ADDRESSES: Requests for copies of the inventions cited should be directed to Andrew Drucker, Naval Facilities Engineering Service Center, Code EV12, 1100 23rd Ave., Port Hueneme, CA 93043-4370 and must include the Navy Case number.

FOR FURTHER INFORMATION CONTACT: Andrew Drucker supporting the Head of Technology Transfer Office, Naval Facilities Engineering Service Center, Code EV12, 1100 23rd Ave., Port Hueneme, CA 93043-4370, telephone 805-982-1108, Fax 805-982-4832, E-mail: andrew.drucker@navy.mil.

Authority: 35 U.S.C. 207, 37 CFR 404.7.

Dated: February 24, 2011.
D.J. Werner,
Lieutenant Commander, Judge Advocate General's Corps, U.S. Navy, Federal Register Liaison Officer.

[FR Doc. 2011-4834 Filed 3-2-11; 8:45 am]

BILLING CODE 3810-FF-P